DEPARTMENT OF AGRICULTURE

Forest Service

Northwest Forest Plan Area Advisory Committee

AGENCY: Forest Service, Agriculture (USDA).

ACTION: Notice of meeting.

SUMMARY: The Northwest Forest Plan Area Advisory Committee will hold a public meeting according to the details shown below. The Committee is authorized under the National Forest Management Act (the Act) and operates in compliance with the Federal Advisory Committee Act (FACA). The purpose of the Committee is to provide advice and pragmatic recommendations regarding potential regional scale land management planning approaches and solutions in the Northwest Forest Plan Area within the context of the 2012 planning rule.

DATES: An in-person meeting, that permits committee members to participate virtually if needed, will be held on November 14, 2023, 08:30 a.m.-5 p.m. Pacific Standard Time (PST), November 15, 2023, 08:30 a.m.-5 p.m. PST, and November 16, 2023, 08:00-11 a.m.

Written and Oral Comments: Anyone wishing to provide in-person oral comments must pre-register by 11:59 p.m. PST on November 7, 2023. Written public comments will be accepted through 11:59 p.m. PST on November 7, 2023. Comments submitted after this date will be provided to the Forest Service, but the Committee may not have adequate time to consider those comments prior to the meeting.

All committee meetings are subject to cancellation. For status of the meeting prior to attendance, please contact the person listed under FOR FURTHER INFORMATION CONTACT.

ADDRESSES: This meeting will be held in person, at the Edgewater Hotel, 2411 Alaskan Way, Seattle, WA 98121. Committee information and meeting details can be found at the following website: https://www.fs.usda.gov/detail/r6/landmanagement/planning/?cid=fseprd1076013 or by contacting the person listed under FOR FURTHER INFORMATION CONTACT.

Written Comments: Written comments must be sent by email to sm.fs.nwfp_faca@usda.gov or via mail (i.e., postmarked) to John Dow, FACA Coordinator, 1220 Southwest 3rd Avenue, Room 1A, Portland, OR 97204. The Forest Service strongly prefers comments be submitted electronically.

Oral Comments: Persons or organizations wishing to make oral comments must pre-register by 11:59 p.m. PST, November 7, 2023, and speakers can only register for one speaking slot. Requests to pre-register for oral comments must be sent by email to sm.fs.nwfp_faca@usda.gov or via mail (i.e., postmarked) to John Dow, FACA Coordinator, 1220 Southwest 3rd Avenue, Room 1A, Portland, OR 97204.

FOR FURTHER INFORMATION CONTACT: Liz Berger, Designated Federal Officer (DFO), by phone at 971-260-7808 or email at Elizabeth.Berger@usda.gov or John Dow, FACA Coordinator, at 719-250-5311 or email at John.Dow@usda.gov.

SUPPLEMENTARY INFORMATION: The purpose of the meeting is to:

1. Review subcommittee considerations regarding priorities for updates to the Northwest Forest Plan;

2. Consider information provided by forest managers and others regarding implementation of the Northwest Forest Plan; and

3. Schedule the next meeting.

The agenda will include time for individuals to make oral statements of three minutes or less. Individuals wishing to make an oral statement should make a request in writing at least three days prior to the meeting date to be scheduled on the agenda. Written comments may be submitted to the Forest Service up to 14 days after the meeting date listed under DATES.

Please contact the person listed under FOR FURTHER INFORMATION CONTACT, by or before the deadline, for all questions related to the meeting. All comments, including names and addresses when provided, are placed in the record and are available for public inspection and copying. The public may inspect comments received upon request.

Meeting Accommodations: The meeting location is compliant with the Americans with Disabilities Act, and the USDA provides reasonable accommodation to individuals with disabilities where appropriate. If you are a person requiring reasonable accommodation, please make requests in advance for sign language interpretation, assistive listening devices, or other reasonable accommodation to the person listed under the FOR FURTHER INFORMATION CONTACT section or contact USDA's TARGET Center at (202) 720-2600 (voice and TTY) or USDA through the Federal Relay Service at (800) 877-8339. Additionally, program information may be made available in languages other than English.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the Committee. To ensure that the recommendations of the Committee have taken in account the needs of the diverse groups served by USDA, membership shall include to the extent possible, individuals with demonstrated ability to represent minorities, women, and persons with disabilities. USDA is an equal opportunity provider, employer, and lender.

Dated: October 17, 2023.
Egypt Simon,
Acting USDA Committee Management Officer.

[FR Doc. 2023-23313 Filed 10-20-23; 8:45 am]

BILLING CODE 3411-15-P